DEPARTMENT OF DEFENSE

Office of the Secretary

[Docket No. DoD-2007-HA-0004]

Proposed Collection; Comment Request

AGENCY: Office of the Assistant Secretary of Defense for Health Affairs, DoD.

ACTION: Notice.

SUMMARY: In compliance with section 3506(c)(2)(A) of the Paperwork Reduction Act of 1995, the Office of the Assistant Secretary of Defense for Health Affairs announces a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 26, 2012.

ADDRESSES: You may submit comments, identified by docket number and or RIN number and title, by any of the following methods:

Federal eRulemaking Portal: http://www.regulations.gov. Follow the instructions for submitting comments.

Mail: Federal Docket Management System Office, 4800 Mark Center Drive, 2nd Floor, East Tower, Suite 02G09, Alexandria, VA 22350-3100.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Office of the Assistant Secretary of Defense for Health Affairs (OASD), 5111 Leesburg Pike, Suite 810A, Falls Church, VA 22041-3206, or call (703) 681-0039.

Title; Associated Form; and OMB Number: Defense Medical Human Resources System internet (DMHRSi); OMB Control Number 0720-TBD.

Needs and Uses: DMHRSi is a Joint Medical Information system software application that provides the Military Health System (MHS) with a comprehensive enterprise human resource system with capabilities to manage personnel, manpower, education & training, labor cost assignment and readiness functional areas. It has built-in safeguards to limit access and visibility of personal or sensitive information in accordance with the Privacy Act of 1974. The application will account for everyone in the MHS—Active Duty, Reserves, National Guard, government civilian, contractors and volunteers assigned or borrowed—this also includes non appropriated fund employees and foreign nationals.

Affected Public: Individuals or households.

Annual Burden Hours: 13,280.

Number of Respondents: 40,000.

Responses per Respondent: Four.

Average Burden per Response: .083.

Frequency: Annually.

SUPPLEMENTARY INFORMATION:

Summary of Information Collection

DMHRSi is one of the premier Joint Medical Information System software applications. It provides the Military Health System (MHS) (including Health Affairs, the TRICARE Management Activity, and the JMISO Office) with a comprehensive enterprise human resource system with capabilities to manage our personnel, manpower, education & training, labor cost assignment, and readiness functional areas. Everyone in the MHS—Active Duty, Reserves, National Guard, government civilian, contractor, and volunteer—assigned or borrowed, will be accounted for in DMHRSi.

Most JMIS products are designed for deployment to medical facilities and field use. DMHRSi has applicability at the headquarters level allowing JMIS to use this product to conduct its own day-to-day workforce management. This comprehensive tool provides the capability to manage positions, develop telephone rosters, monitor individual training status, etc. Deciding to implement DMHRSi within all JMIS program offices, provides a great opportunity to LEAD BY EXAMPLE using the application just as we expect those “in the field” to do.

The information in DMHRSi is sometimes personal or sensitive; therefore it contains built-in safeguards to limit access and visibility of this information. DMHRSi uses role-based security so a user sees only the information for which permission has been granted. It uses state-of-the-market 128-bit encryption security for our transactions. It is DITSCAP certified, having been subjected to and passed thorough security testing and evaluation by independent parties. It meets safeguards specified by the Privacy Act of 1974 in that it maintains a published Department of Defense (DoD) Privacy Impact Assessment and System of Record covering Active Duty Military, Reserve, National Guard, and government civilian employees, to include non-appropriated fund employees and foreign nationals, DoD contractors, and volunteers. DMHRSi is hosted in a secure facility managed by the Defense Information Systems Agency.

For JMIS military and government civilian personnel, most of the required data is received from Service or DoD source systems. However, there may be some additional data entered locally. For contract support personnel, records must be created. So, the first step to implement DMHRSi in JMIS is to collect selected data and have it entered into the application. JMIS will provide templates to ease this initial data gathering process.

Once the initial record is created, there is some data such as local address and phone number that each employee can review and maintain individually. This is accomplished through the DMHRSi Employee Self-Service interface. Therefore, the second step to implement DMHRSi in JMIS is for all personnel to complete two online courses, Introduction to DMHRSi and DMHRSi Employee Self-Service. Training is through the MHS Learning Management System—MHS Learn—accessed at https://mhslearn.satx.disa.mil. MHS Learn guidance including login instructions and timelines for completion will be provided separately.

Dated: January 31, 2012.
Patricia L. Toppings,
OSD Federal Register Liaison Officer, Department of Defense.

[FR Doc. 2012-3518 Filed 2-14-12; 8:45 am]

BILLING CODE 5001-06-P